DEPARTMENT OF ENERGY

Federal Energy Regulatory Commission

[Docket No. CP02-424-000]

Westpan Resources L.P.; Notice of Petition

August 21, 2002.

On August 12, 2002, Westpan Resources L.P., (Westpan), pursuant to Rule 207 of the Rules of Practice and Procedure of the Federal Energy Regulatory Commission (Commission), 18 CFR 385.207, filed a petition for a declaratory order in Docket No. CP02-424-000 requesting that the Commission declare certain onshore natural gas gathering and related facilities located in the Panhandle Field of Texas as gas gathering facilities exempt from the Commission's jurisdiction under section 1(b) of the Natural Gas Act (NGA), all as more fully set forth in the petition which is on file with the Commission and open to public inspection. This filing is available for review at the Commission in the Public Reference Room or may be viewed on the Commission's Web site at http://www.ferc.gov using the “FERRIS” link. Enter the docket number excluding the last three digits in the docket number field to access the document. For Assistance, call (202) 502-8222 or for TTY, (202) 208-1659.

Westpan states that its affiliate, Pioneer Natural Resources USA, Inc. (Pioneer) is to acquire from Colorado Interstate Gas Company (CIG) under an April 13, 2002 Gathering Assets Purchase and Sale Agreement (PSA) certain onshore natural gas gathering and related facilities. Westpan has stated that neither it nor Pioneer are affiliated with CIG, and neither are natural gas companies subject to the Commission's jurisdiction under the NGA. Under the PSA, Pioneer is entitled to designate the entity that will hold the assets that are the subject of the PSA and that entity will be its affiliate, Westpan. Westpan states that the facilities to be transferred to it under the PSA are nonjurisdictional gathering facilities exempt from the Commission's jurisdiction under NGA Section 1(b).

Pioneer and CIG have entered into the PSA for the transfer of facilities at a purchase price of $19.5 million. The facilities to be transferred to Westpan under the PSA are located in the Panhandle Field in Carson, Moore, Potter, Hartley, Hutchinson and Oldham Counties, Texas. Westpan states that the transfer of facilities will consist of: (i) Approximately 700 miles of onshore gathering pipeline ranging in diameter from 2-inches to 24-inches with approximately 781 wells attached; (ii) 18 Panhandle Field Compressor (PFC) stations totaling approximately 49,000 horsepower; (iii) approximately 42 miles of certificated fuel gas lines ranging in diameter from 1-inch to 20-inches; and (iv) miscellaneous appurtenant facilities.

This petition is a companion filing to CIG's Application for Permission and Approval to Abandon the Panhandle Gathering System by sale to Pioneer filed on July 31, 2002, in Docket No. CP02-417-000, wherein CIG demonstrates that the subject facilities are nonjurisdictional gathering facilities to which abandonment under Section 7(b) of the NGA is warranted. Wholly consistent with the abandonment application, Westpan states that these subject facilities are nonjurisdictional gathering facilities and is petitioning the Commission for a declaratory order disclaiming jurisdiction.

Any questions concerning this petition may be directed to Bruce F. Kiely, Mark K. Lewis, Mark J. O'Brien, Baker Botts LLP, The Warner, 1299 Pennsylvania Ave., NW., Washington, DC 20004-2400 at (202) 639-7700 or Mark L. Withrow, Pioneer Natural Resources USA, Inc., Executive Vice President and General Counsel, 5205 N. O'Connor Blvd, Suite 1400, Irving, TX 75039-3746 at (972) 969-4090.

There are two ways to become involved in the Commission's review of this project. First, any person wishing to obtain legal status by becoming a party to the proceedings for this project should, on or before September 11, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Linwood A. Watson, Jr.,
Deputy Secretary.

[FR Doc. 02-21846 Filed 8-27-02; 8:45 am]

BILLING CODE 6717-01-P